SECURITIES AND EXCHANGE COMMISSION

Sunshine Act Meeting

Federal Register citation of Previous Announcement: [67 FR 69577, November 18, 2002].

Status: Closed Meeting.

Place: 450 Fifth Street, NW., Washington, DC.

Date and Time of previously announced meeting: Wednesday, November 20, 2002, at 10 a.m.

Change in the Meeting: Time Change/Additional Item.

The Closed Meeting scheduled for Wednesday, November 20, 2002 at 10 a.m. was changed to Wednesday, November 20, 2002 at 10:45 a.m.

The following item was added to the Closed Meeting scheduled for Wednesday, November 20, 2002: amicus consideration.

Commissioner Campos, as duty officer, determined that Commission business required the above change and that no earlier notice thereof was possible.

At times, changes in Commission priorities require alterations in the scheduling of meeting items. For further information and to ascertain what, if any, matters have been added, deleted or postponed, please contact:

The Office of the Secretary at (202) 942-7070.

Dated: November 20, 2002.
Jonathan G. Katz,
Secretary.

[FR Doc. 02-30033 Filed 11-21-02; 8:45 am]

BILLING CODE 8010-01-M